DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual regulatory agenda.

SUMMARY: This notice provides the semiannual agenda of Department of the Interior (Department) rules scheduled for review or development between spring 2017 and spring 2018. The Regulatory Flexibility Act and Executive Order 12866 require publication of the agenda.

ADDRESSES: Unless otherwise indicated, all agency contacts are located at the Department of the Interior, 1849 C Street NW., Washington, DC 20240.

FOR FURTHER INFORMATION CONTACT: Please direct all comments and inquiries about these rules to the appropriate agency contact. Please direct general comments relating to the agenda to the Office of Executive Secretariat and Regulatory Affairs, Department of the Interior, at the address above or at (202) 208-5257.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation. If that determination is made, such rules will comply with Executive Order 13771.

Mark Lawyer,
Federal Register Liaison Officer.

Bureau of Safety and Environmental Enforcement—Proposed Rule Stage
Sequence No. | Title | Regulation Identifier No.
151 | Cost Recovery Adjustment | 1014-AA31

United States Fish and Wildlife Service—Proposed Rule Stage
Sequence No. | Title | Regulation Identifier No.
152 | Migratory Bird Hunting; 2018-2019 Migratory Game Bird Hunting Regulations | 1018-BB73

United States Fish and Wildlife Service—Completed Actions
Sequence No. | Title | Regulation Identifier No.
153 | National Wildlife Refuge System; Management of Non-Federal Oil and Gas Rights | 1018-AX36
154 | Migratory Bird Permits; Incidental Take of Migratory Birds | 1018-BA69

National Park Service—Completed Actions
Sequence No. | Title | Regulation Identifier No.
155 | Non-Federal Oil and Gas Rights | 1024-AD78

Office of Surface Mining Reclamation and Enforcement—Final Rule Stage
Sequence No. | Title | Regulation Identifier No.
156 | Stream Protection Rule | 1029-AC63

Bureau of Land Management—Completed Actions
Sequence No. | Title | Regulation Identifier No.
157 | Waste Prevention, Production Subject to Royalties, and Resource Conservation | 1004-AE14
158 | Onshore Oil and Gas Order 4: Oil Measurement | 1004-AE16

DEPARTMENT OF THE INTERIOR (DOI)

Bureau of Safety and Environmental Enforcement (BSEE)

Proposed Rule Stage

151. Cost Recovery Adjustment

Legal Authority: 31 U.S.C. 9701

Abstract: This supplemental proposal will seek additional comments on the proposed adjustments to 31 cost recovery fees to allow the Bureau of Safety and Environmental Enforcement to recover the full costs of the services it provides to the oil and gas industry. It complies with the Independent Office Appropriations Act of 1952, which established that government services should be self-sustaining to the extent possible, and with OMB Circular A-25, which requires federal agencies to biannually review user charges and to determine whether new fees should be established for agency services. Rulemaking is the only method available to update these fees and comply with the intent of Congress to recover government costs when a special benefit is bestowed on an identifiable recipient.

Timetable:

Action | Date | FR Cite
NPRM | 11/17/16 | 81 FR 81033
NPRM Comment Period End | 02/16/17 | 82 FR 1284
Supplemental NPRM | 08/00/17

Regulatory Flexibility Analysis Required: Yes.

Agency Contact: Kimberly Monaco, Department of the Interior, Bureau of Safety and Environmental Enforcement, 1849 C Street NW., Washington, DC 20240, Phone: 703 787-1658.

RIN: 1014-AA31

DEPARTMENT OF THE INTERIOR (DOI)

United States Fish and Wildlife Service (FWS)

Proposed Rule Stage

152. Migratory Bird Hunting; 2018-2019 Migratory Game Bird Hunting Regulations

Legal Authority: 16 U.S.C. 703 to 711; 16 U.S.C. 742a-j

Abstract: We propose to establish annual hunting regulations for certain migratory game birds for the 2018-2019 hunting season. We annually prescribe outside limits (frameworks), within which States may select hunting seasons. This proposed rule provides the regulatory schedule, describes the proposed regulatory alternatives for the 2018-2019 duck hunting seasons, requests proposals from Indian tribes that wish to establish special migratory game bird hunting regulations on Federal Indian reservations and ceded lands, and requests proposals for the 2018 spring and summer migratory bird subsistence season in Alaska. Migratory game bird hunting seasons provide opportunities for recreation and sustenance; aid Federal, State, and tribal governments in the management of migratory game birds; and permit harvests at levels compatible with migratory game bird population status and habitat conditions.

Timetable:

Action | Date | FR Cite
NPRM | 06/00/17
Supplemental | 08/00/17
NPRM; Proposed Frameworks | 12/00/17
NPRM; Proposed Tribal Regulations | 01/00/18
Final Rule; Final Frameworks | 03/00/18
Final Rule; Final Tribal Regulations | 05/00/18
Final Rule; Final Season Selections | 05/00/18

Regulatory Flexibility Analysis Required: Yes.

Agency Contact: Ronald Kokel, Wildlife Biologist, Division of Migratory Bird Management, Department of the Interior, United States Fish and Wildlife Service, 5275 Leesburg Pike, MS: MB, Falls Church, VA 22041-3808, Phone: 703 358-1714, Email: ronald_kokel@fws.gov.

RIN: 1018-BB73

DEPARTMENT OF THE INTERIOR (DOI)

United States Fish and Wildlife Service (FWS)

Completed Actions

153. National Wildlife Refuge System; Management of Non-Federal Oil and Gas Rights

Legal Authority: 16 U.S.C. 668dd to 668ee; 42 U.S.C. 7401 et seq.; 16 U.S.C. 1131 to 1136

Abstract: We published regulations that ensure that all operators conducting oil or gas operations within a National Wildlife Refuge System unit do so in a manner that prevents or minimizes damage to National Wildlife Refuge System resources, visitor values, and management objectives. These regulations will not result in a taking of a property interest, but rather impose reasonable controls on operations that affect federally owned or controlled lands, and/or waters.

Timetable:

Action | Date | FR Cite
ANPRM | 02/24/14 | 79 FR 10080
ANPRM Comment Period End | 04/25/14
ANPRM Comment Period Reopened | 06/09/14 | 79 FR 32903
ANPRM Comment Period Reopening End | 07/09/14
NPRM | 12/11/15 | 80 FR 77200
NPRM Comment Period End | 02/09/16
NPRM; Final Environmental Impact Statement | 08/22/16 | 81 FR 56575
Supplemental NPRM | 11/14/16 | 81 FR 79408
Final Action | 11/14/16 | 81 FR 79948
Final Action Effective | 12/14/16

Regulatory Flexibility Analysis Required: Yes.

Agency Contact: Jillian Cohen, Conservation Policy Analyst, Department of the Interior, United States Fish and Wildlife Service, 5275 Leesburg Pike, MS: NWRS, Falls Church, VA 22041, Phone: 703 358-1764, Email: jillian_cohen@fws.gov.

RIN: 1018-AX36

154. Migratory Bird Permits; Incidental Take of Migratory Birds

Legal Authority: 16 U.S.C. 703 to 712; 42 U.S.C. 4321 et seq.

Abstract: This rule would establish regulations to govern the incidental take of migratory birds from activities under which migratory birds are killed incidental to otherwise lawful activities, including requirements for individual permits and programmatic agreements with Federal agencies. This agenda item is being withdrawn at the present time to allow the Department to assess the action further and determine whether rulemaking is appropriate. Following such an assessment, the Department may determine that certain rules listed as withdrawn under this agenda are appropriate for promulgation. If that determination is made, such rules will be included in a succeeding semiannual agenda under new RINs.

Timetable:

Action | Date | FR Cite
Notice | 05/26/15 | 80 FR 30032
Comment Period End | 07/27/15
Withdrawn | 04/11/17

Regulatory Flexibility Analysis Required: Yes.

Agency Contact: Stephen Earsom, Biologist--Pilot, Regions 4 & 5 Aviation Manager, Department of the Interior, United States Fish and Wildlife Service, 11510 American Holly Drive, Laurel, MD 20708, Phone: 301 980-8711, Email: stephen_earsom@fws.gov.

RIN: 1018-BA69

DEPARTMENT OF THE INTERIOR (DOI)

National Park Service (NPS)

Completed Actions

155. Non-Federal Oil and Gas Rights

Legal Authority: 54 U.S.C. 100101; 54 U.S.C. 100301; 54 U.S.C. 100302; 54 U.S.C. 100731; 54 U.S.C. 100732

Abstract: This rule would update National Park Service (NPS) regulations governing the exercise of non-Federal oil and gas rights within NPS unit boundaries outside of Alaska. It would accommodate new technology and industry practices, eliminate regulatory exemptions, update requirements, remove caps on bond amounts, and allow NPS to recover administrative costs. The changes make the regulations more effective and efficient and maintain the highest level of protection compatible with park resources and values.

Timetable:

Action | Date | FR Cite
ANPRM | 11/25/09 | 74 FR 61596
ANPRM Comment Period End | 01/25/10
NPRM | 10/26/15 | 80 FR 65571
NPRM Comment Period End | 12/28/15
Final Action | 11/04/16 | 81 FR 77972
Final Action Effective | 12/05/16

Regulatory Flexibility Analysis Required: Yes.

Agency Contact: Edward O. Kassman Jr., Geologic Resources Division, Department of the Interior, National Park Service, P.O. Box 25287, Denver, CO 80225, Phone: 303 969-2146, Email: edward_kassman@nps.gov.

RIN: 1024-AD78

DEPARTMENT OF THE INTERIOR (DOI)

Office of Surface Mining Reclamation and Enforcement (OSMRE)

Final Rule Stage

156. Stream Protection Rule

Legal Authority: 30 U.S.C. 1201 et seq.

Abstract: The final rule published December 20, 2016 (81 FR 93066) and became effective January 19, 2017. The final rule was nullified by a joint resolution of disapproval under the Congressional Review Act, signed by the President on February 16, 2017 (Pub. L. 115-5). This action conforms to Public Law 115-5 by changing the Code of Federal Regulations to reflect the regulations as they existed before the effective date of the final rule that was nullified under the Congressional Review Act.

Timetable:

Action | Date | FR Cite
ANPRM | 11/30/09 | 74 FR 62664
ANPRM Comment Period End | 12/30/09
NPRM | 07/27/15 | 80 FR 44436
NPRM Comment Period Extended | 09/10/15 | 80 FR 54590
NPRM Comment Period End | 09/25/15
NPRM Comment Period Extended End | 10/26/15
Final Action | 12/20/16 | 81 FR 93066
Final Action Effective | 01/19/17
Final Rule; CRA Revocation | 07/00/17

Regulatory Flexibility Analysis Required: Yes.

Agency Contact: Dennis Rice, Regulatory Analyst, Department of the Interior, Office of Surface Mining Reclamation and Enforcement, 1951 Constitution Avenue NW., Washington, DC 20240, Phone: 202 208-2829, Email: drice@osmre.gov.

RIN: 1029-AC63

DEPARTMENT OF THE INTERIOR (DOI)

Bureau of Land Management (BLM)

Completed Actions

157. Waste Prevention, Production Subject to Royalties, and Resource Conservation

Legal Authority: 25 U.S.C. 396d; 25 U.S.C. 2107; 30 U.S.C. 189; 30 U.S.C. 306; 30 U.S.C. 359; 30 U.S.C. 1751; 43 U.S.C. 1732(b); 43 U.S.C. 1733; 43 U.S.C. 1740

Abstract: The rule would update decades-old standards to reduce wasteful venting, flaring, and leaks of natural gas from onshore wells located on Federal and Indian oil and gas leases. The proposed standards would establish requirements and incentives to reduce waste of gas and clarify when royalties apply to lost gas. This action will enhance our energy security and economy by boosting America's natural gas supplies, ensuring that taxpayers receive the royalties due to them from development of public resources, and reducing emissions.

Timetable:

Action | Date | FR Cite
NPRM | 02/08/16 | 81 FR 6616
NPRM Comment Period Extended | 04/04/16 | 81 FR 19110
NPRM Comment Period End | 04/08/16
NPRM Comment Period Extended End | 04/22/16
Final Action | 11/18/16 | 81 FR 83008
Final Action Effective | 01/17/17

Regulatory Flexibility Analysis Required: Yes.

Agency Contact: Steven Wells, Division Chief, Fluid Minerals Division, Department of the Interior, Bureau of Land Management, Room 2134 LM, 20 M Street SE., Washington, DC 20003, Phone: 202 912-7143, Fax: 202 912-7194, Email: s1wells@blm.gov.

RIN: 1004-AE14

158. Onshore Oil and Gas Order 4: Oil Measurement

Legal Authority: 25 U.S.C. 396(d); 25 U.S.C. 2107; 30 U.S.C. 189; 30 U.S.C. 306; 30 U.S.C. 359; 30 U.S.C. 1751; 43 U.S.C. 1732(b); 43 U.S.C. 1733; 43 U.S.C. 1740

Abstract: Onshore Order 4 establishes minimum standards to ensure liquid hydrocarbons are accurately measured and reported. This Order was last updated in 1989, and since then changes in technology have allowed for more accurate fluid measurement. This order will incorporate current industry standards and allow for the use of new technology.

Timetable:

Action | Date | FR Cite
NPRM | 09/30/15 | 80 FR 58952
NPRM Comment Period Extended | 11/23/15 | 80 FR 72943
NPRM Comment Period End | 11/30/15
NPRM Comment Period Extended End | 12/14/15
Final Action | 11/17/16 | 81 FR 81462
Final Action Effective | 01/17/17

Regulatory Flexibility Analysis Required: Yes.

Agency Contact: Steven Wells, Division Chief, Fluid Minerals Division, Department of the Interior, Bureau of Land Management, Room 2134 LM, 20 M Street SE., Washington, DC 20003, Phone: 202 912-7143, Fax: 202 912-7194, Email: s1wells@blm.gov.

RIN: 1004-AE16

[FR Doc. 2017-16923 Filed 8-23-17; 8:45 am]

BILLING CODE 4334-63-P